NATIONAL SCIENCE FOUNDATION

Notice of Permit Applications Received Under the Antarctic Conservation Act of 1978 (Pub. L. 95-541)

AGENCY: National Science Foundation.

ACTION: Notice of permit applications received under the Antarctic Conservation Act of 1978, Public Law 95-541.

SUMMARY: The National Science Foundation (NSF0 is required to publish notice of permit applications received to conduct activities regulated under the Antarctic Conservation Act of 1978. NSF has published regulations under the Antarctic Conservation Act at Title 45 part 670 of the Code of Federal Regulations. This is the required notice of permit applications received.

DATES: Interested parties are invited to submit written data, comments, or views with respect to this permit application by July 1, 2005. This application may be inspected by interested parties at the Permit Office, address below.

ADDRESSES: Comments should be addressed to Permit Office, Room 755, Office of Polar Programs, National Science Foundation, 4201 Wilson Boulevard, Arlington, VA 22230.

FOR FURTHER INFORMATION CONTACT: Nadene G. Kennedy at the above address or (703) 292-7405.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas requiring special protection. The regulations establish such a permit system to designate Antarctic Specially Protected Areas.

The applications received are as follows:

1. Applicant

(Permit Application No. 2006-014)

W. Berry Lyons, Byrd Polar Research Center, Ohio State University, 1090 Carmack Road, Columbus, OH 43210509.

Activity for Which Permit is Requested

Take and Enter an Antarctic Specially Protected Area. The applicant proposes to enter the Canada Glacier, Lake Fryxell Antarctic Specially Protected Area (ASPA #131) to continue fieldwork associated with the Long-Term Ecological Research (LTER) program studying the McMurdo Dry Valleys. The applicant plans to continue operation of the previously installed, continuously recording stream gauge station, perform maintenance, conduct stream flow measurements, and collect water, soil and moss samples to study in-stream biogeochemical processes.

Location

Canada Glacier, Lake Fryxell (ASPA #131).

Dates

October 1, 2005 to February 28, 2011.

Nadene G. Kennedy,
Permit Officer, Office of Polar Programs.

[FR Doc. 05-10873 Filed 5-31-05; 8:45 am]

BILLING CODE 7555-01-M